DEPARTMENT OF ENERGY

Federal Energy Regulatory Commission

[Docket Nos. CP17-494-000 and CP17-495-000]

Pacific Connector Gas Pipeline LP and Jordan Cove Energy Project L.P.; Notice of Revised Schedule for the Environmental Review and the Final Order for the Jordan Cove Energy Project

This notice identifies the Federal Energy Regulatory Commission (Commission) staff's revised schedule for the completion of the environmental impact statement (EIS) for the Jordan Cove Energy Project. Previously, a notice was issued identifying October 11, 2019 and January 9, 2020 as the respective dates for the final EIS and Order issuances. The U.S. Forest Service, who is a cooperating agency in the EIS preparation, only recently received critical information from the project proponent that is necessary for it to complete its land and resource management plan amendments; therefore, additional time is required in order to incorporate this new information into the final EIS. Accordingly, staff has revised the schedule for issuance of the final EIS as follows.

Schedule for Environmental Review

Issuance of Notice of Availability of the final EIS—November 15, 2019

90-day Federal Authorization Decision Deadline—February 13, 2020

Based on the revised final EIS schedule, the Commission currently anticipates issuing a final Order for the project no later than:

Issuance of Final Order—February 13, 2020

If a schedule change becomes necessary, an additional notice will be provided so that the relevant agencies are kept informed of the project's progress.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP17-494 and CP17-495), and follow the instructions. For assistance with access to eLibrary, the helpline can be reached at (866) 208-3676, TTY (202) 502-8659, or at FERCOnlineSupport@ferc.gov. The eLibrary link on the FERC website also provides access to the texts of formal documents issued by the Commission, such as orders, notices, and rulemakings.

Dated: September 27, 2019.
Nathaniel J. Davis, Sr.,
Deputy Secretary.

[FR Doc. 2019-21497 Filed 10-2-19; 8:45 am]

BILLING CODE 6717-01-P